DEPARTMENT OF STATE

[Public Notice 7972]

Shipping Coordinating Committee; Notice of Committee Meeting

The Shipping Coordinating Committee (SHC) will conduct an open meeting at 10 a.m. on Wednesday, September 5, 2012, in Room 1303 of the United States Coast Guard Headquarters Building, 2100 Second Street, SW., Washington, DC 20593-0001. The primary purpose of the meeting is to prepare for the seventeenth Session of the International Maritime Organization's (IMO) Sub-Committee on Dangerous Goods, Solid Cargoes and Containers (DSC 17) to be held at the IMO Headquarters, United Kingdom, September 17-21.

The agenda items to be considered include:

—Adoption of the agenda

—Decisions of other IMO bodies

—Amendment 37-14 to the International Maritime Dangerous Goods (IMDG) Code and supplements, including harmonization with the United Nations (UN) Recommendations on the transport of dangerous goods

—Amendment 02-13 to the International Maritime Solid Bulk Cargoes (IMSBC) Code and supplements

—Amendments to SOLAS to mandate enclosed space entry and rescue drills

—Revision of the guidelines for packing of cargo transport units

—Development of measures to prevent loss of containers

—Development of guidance for Approved Continuous Examination Programmes

—Development of criteria for the evaluation of environmentally hazardous solid bulk cargoes in relation to the revised MARPOL Annex V

—Amendments to the International Convention for Safe Containers, 1972, and associated circulars

—Stowage of water-reactive materials

—Guidance on protective clothing

—Casualty and incident reports and analysis

—Biennial agenda and provisional agenda for DSC 18

—Election of Chairman and Vice-Chairman for 2013

—Any other business

—Report to the Maritime Safety Committee

Members of the public may attend this meeting up to the seating capacity of the room. To facilitate the building security process, and to request reasonable accommodation, those who plan to attend should contact the meeting coordinator, Ms. Amy Parker, by email at Amy.M.Parker@uscg.mil, by phone at (202) 372-1423, by fax at (202) 372-1426, or in writing at Commandant (CG-ENG-5), U.S. Coast Guard, 2100 2nd Street, SW., Stop 7126, Washington, DC 20593-7126 not later than August 29, 2012, 7 days prior to the meeting. Requests made after August 29, 2012 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: August 1, 2012.
Brian Robinson,
Executive Secretary, Shipping Coordinating Committee, Department of State.

[FR Doc. 2012-19404 Filed 8-7-12; 8:45 am]

BILLING CODE 4710-09-P